Proclamation 10652 of October 10, 2023

International Day of the Girl, 2023

By the President of the United States of America

A Proclamation

On International Day of the Girl, we recognize that when every girl around the world has the opportunity to realize her potential, the possibilities for our future are limitless.

Girls are dreamers and doers leading our world forward—growing up to become changemakers, innovators, entrepreneurs, service members, activists, public servants, and so much more. When we empower girls and ensure they have the resources they need to thrive, countries and economies are stronger, and the entire world is more secure. Yet in far too many places, girls are still being denied equal opportunity, prohibited from contributing to their communities and deprived of the freedom to pursue their dreams without violence and intimidation.

That is why my Administration puts women and girls at the heart of everything we do. I established the White House Gender Policy Council to advance gender equity and equality across all domestic and foreign policy. I released the first-ever United States National Strategy on Gender Equity and Equality, which provides a road map to advance the economic security, safety, health, and well-being of women and girls at home and around the world.

Every girl in America deserves an equal shot at fulfilling her highest aspirations and setting a strong foundation for the future often begins in the classroom. That is why my Administration has secured a historic $130 billion for America's K-12 schools and invested $39 billion in colleges and universities. Funding from our American Rescue Plan has put more teachers in our classrooms and more counselors, social workers, and other staff in our schools and is providing high-quality tutoring; supporting record expansion of summer and after-school programming; improving air quality in schools and addressing environmental and safety needs in aging school buildings; and providing a wide range of student supports.

We are also working to ensure that we tackle the mental health crisis, which is taking a toll on our Nation's kids—especially girls. The American Rescue Plan made our country's biggest-ever investment in mental health and substance use programs—including resources to recruit, train, and support more providers at the State and local levels, including in our schools. We are also working to increase the number of school psychologists and mental health counselors available to our kids to make it easier for schools to bill Medicaid to deliver health services, including mental health care, and to expand the Certified Community Behavioral Health Clinics that deliver 24/7 care to those in need, regardless of their ability to pay.

Young women have also demanded that our Nation do better to protect us all from the scourge of gun violence. Last year, I signed the Nation's first major gun safety law in nearly 30 years to prevent gun violence, increase access to mental health care, and save lives. We established the first-ever White House Office of Gun Violence Prevention to build upon these measures.

My Administration also remains committed to ending gender-based violence, a human rights issue that undermines the safety, security, and dignity of girls everywhere. This includes taking steps to address the harmful impacts of social media on young people and responding to online harassment and abuse, which disproportionately impacts youth, particularly girls. In my State of the Union Address, I called on the Congress to pass legislation that strengthens our children's privacy and online safety. We have worked with the Congress to reauthorize and strengthen the Violence Against Women Act, and we recently released a National Plan to End Gender-Based Violence—our country's first Government-wide plan to prevent and address sexual violence, intimate partner violence, stalking, and other forms of gender-based violence. We will continue supporting the rights of all women and girls—including transgender women and girls and all members of the LGBTQI+ community—across the Nation.

The United States is committed to empowering girls globally. Last year, we requested a historic doubling of foreign assistance to promote gender equity globally—to provide a record $2.6 billion in 1 year, including investments in the health, education, and empowerment of girls and young women—and I am pleased to say we have not only met but exceeded that request. Additionally, we are supporting equitable access to health care. We are working to improve access to education with a goal of reaching 15 million girls and young women by 2025. We are continuing to advance the efforts outlined in our updated United States Strategy to Prevent and Respond to Gender-Based Violence Globally.

Today, I am reminded of a message First Lady Jill Biden delivered to girls everywhere at an event honoring the Secretary of State's International Women of Courage awardees: “When you learn and explore, when you raise your voice, when you move through the world with your shoulders back and your head held high, step by step, you shift the ground beneath you . . . And as you take those steps, as you grow into the women you will be, remember: You are never alone.” On International Day of the Girl, let us renew this commitment. Let us continue to build a future worthy of the abilities and ambitions of all girls—one with no limit to how far their dreams and talents can carry them.

NOW, THEREFORE, I, JOSEPH R. BIDEN JR., President of the United States of America, by virtue of the authority vested in me by the Constitution and the laws of the United States, do hereby proclaim October 11, 2023, as International Day of the Girl. I call upon the people of the United States to observe this day with programs, ceremonies, and policies that advance equity and opportunity for girls everywhere.

IN WITNESS WHEREOF, I have hereunto set my hand this tenth day of October, in the year of our Lord two thousand twenty-three, and of the Independence of the United States of America the two hundred and forty-eighth.

[FR Doc. 2023-22829

Filed 10-12-23; 11:15 am]

Billing code 3395-F4-P